DEPARTMENT OF DEFENSE

Department of the Army, Corps of Engineers

Intent to Prepare an Environmental Impact Statement for the Dam Safety Modification Report, Bluestone Dam, Hinton, Summers County, WV

AGENCY: Department of the Army, U.S. Army Corps of Engineers, DoD.

ACTION: Notice of Intent.

SUMMARY: Pursuant to the National Environmental Policy Act (NEPA), the U.S. Army Corps of Engineers (Corps), Huntington District will prepare a supplemental Environmental Impact Statement (EIS) to disclose potential impacts to the natural, physical, and human environment resulting from modifications to Bluestone Dam. The original EIS was published in 1998 and a Record of Decision (ROD) was signed in 1999 concluding the NEPA process allowing the Corps to initiate implementation of the Bluestone Dam Safety Assurance (DSA) Project. When completed, the current modifications under construction will strengthen the dam's stability and allow for increased discharge capacity through the use of hydropower penstocks substantially reducing risk. However, physical modeling and expert analysis conducted during project construction has indicated the downstream bedrock is vulnerable to an unacceptable degree of erosion during high flow events. The Corps has also recognized potential for unacceptable erosion associated with overtopping of areas of the dam not designed to be overtopped. After a full consideration of alternatives, this supplemental EIS will recommend additional modifications to address such risks and to achieve acceptable risk levels.

DATES: A public scoping meeting will be held on December 5, 2013.

ADDRESSES: Send written comments and suggestions concerning this proposed project to Jonathan J. Aya-ay, Planning Branch, U.S. Army Corps of Engineers, Huntington District, 502 Eighth Street, Huntington, WV 25701-2070. Telephone: 304-399-5276. Electronic mail: BluestoneDamPublicComments@.usace.army.mil. Requests to be placed on the mailing list should also be sent to this address.

FOR FURTHER INFORMATION CONTACT: Andrew N. Johnson, Environmental Analysis Section, U.S. Army Corps of Engineers, Huntington District, 502 Eighth Street, Huntington, WV 25701-2070. Telephone: 304-399-5189. Electronic mail: andrew.n.johnson@usace.army.mil.

SUPPLEMENTARY INFORMATION:

1. Authority: Investigation and justification for dam safety modifications at completed Corps of Engineers projects is authorized under Section 2033 of the Water Resources Development Act of 2007 (Pub. L. 110-114).

2. Background: a. Guidance for this study is provided in USACE Engineer Regulation (ER) 1110-2-1156 (October 2011). This guidance details agency policy and procedures for the study and implementation process addressing dam safety issues.

b. Bluestone Lake is a multipurpose component of the Kanawha River basin system which provides for flood control, recreation, power development, low flow augmentation, and fish and wildlife enhancement. The project began operation in 1949 and helps control a 4,565 square mile drainage area.

c. The ROD, signed in 1999, completed the NEPA process for the DSA project permitting the Huntington District to begin detailed design and subsequent construction of the recommended alternative which included a 13 foot cantilever wall on top of the dam, an additional concrete monolith on the east abutment, a floodgate closure across WV Rt. 20, removable closures at each end of the spillway, high strength anchors placed into the dam itself, massive concrete blocks placed against the downstream face of the dam, and a pavement for scour protection downstream of the hydropower penstocks. Ongoing construction on these measures will likely continue through the year 2020.

d. Physical modeling and expert analysis conducted during project construction has shown that the downstream bedrock is vulnerable to erosion during high flow events as a result of deficiencies with the current stilling basin configuration. This potential erosion creates an unacceptable level of risk according to guidelines established in Chapter 5 of ER 1110-2-1156, under which this study is being conducted.

e. The supplemental EIS and Dam Safety Modification report (DSMR) will consider the structural integrity of the dam, its ability to accommodate flood waters as well as transportation, noise, terrestrial, aquatic, economic, environmental justice and cultural resource issues associated with the performance of the dam. The supplemental EIS and DSMR will recommend any modifications necessary to ensure the long-term safe performance of the structure as originally intended.

f. Modifications to meet current acceptable risk guidelines per ER 1110-2-1156 may include, modification of the existing stilling basin, modification of other dam components, construction of an alternative/auxiliary stilling basin, construction of an alternative/auxiliary spillway and non-structural measures or other actions to prevent overtopping. The No Action alternative will also be considered. As required by NEPA and Corps of Engineers planning guidance, the No Action alternative will form a benchmark from which alternatives are evaluated and compared.

3. Public Participation: a. The Corps of Engineers will conduct a public scoping meeting on December 5, 2013 to gain input from interested agencies, organizations, and the general public concerning the content of the supplemental EIS, issues and impacts to be addressed in the supplemental EIS, and alternatives that should be analyzed. The meeting will be held from 6:00 p.m. to 9:00 p.m. at the Summers County Memorial Building, 97 Park Avenue, Hinton, WV 25951.

b. The Corps invites full public participation to promote open communication and better decision-making. All persons and organizations that have an interest in the Bluestone Dam Project are urged to participate in this NEPA evaluation process. Assistance will be provided upon request to anyone having difficulty with learning how to participate.

c. Public comments are welcomed anytime throughout the NEPA process. Formal opportunities for public participation include: (1) Public meeting/s to be held near the community of Hinton; (2) Anytime during the NEPA process via mail, telephone or email; (3) During Review and Comment on the Draft EIS; and (4) Review of the Final EIS. Schedules and locations will be announced in local news media. Interested parties should submit contact information to be included on the mailing list for public distribution of meeting announcements and documents (See ADDRESSES).

4. Schedule: The Draft Supplemental Environmental Impact Statement is tentatively scheduled to be released for public review and comment in June 2015. The Final Report and Final EIS are tentatively scheduled to be completed in October 2015.

Brenda S. Bowen,
Army Federal Register Liaison Officer.

[FR Doc. 2013-28031 Filed 11-22-13; 8:45 am]

BILLING CODE 3720-58-P